DEPARTMENT OF HEALTH AND HUMAN SERVICES

Privacy Act of 1974: Revision to Existing System of Records

AGENCY: Child Care Subsidy Program, Office of the Assistant Secretary for Administration and Management (ASAM), Office of the Secretary, HHS.

ACTION: Notice of revision to an existing system of records.

SUMMARY: In accordance with the requirements of the Privacy Act, the Department of Health and Human Services (HHS) is publishing a notice of the revision of an existing system of records, 09-90-0200, Child Care Subsidy Program. The revised system will collect family income data from employees in the National Institutes of Health, as well as the Health Resources and Services Administration, the Food and Drug Administration (FDA), the Program Support Center (PSC), the Office of the Secretary (OS), the Administration on Aging (AoA), the Centers for Disease Control and Prevention and Agency for Toxic Substances and Disease Registry (CDC/ATSDR) and the Substance Abuse and Mental Health Services Administration (SAMHSA) who are already covered by this system, for the purpose of determining their eligibility for child care subsidies, and the amounts of the subsidies. It also will collect information from the employees' child care provider(s) for verification purposes, e.g., that the provider is licensed. Collection of data will be by subsidy application forms submitted by employees. HHS is also revising the name of the General Accounting Office (GAO) in Routine Use number 5 because the name of that office has changed to the Government Accountability Office.

DATES: This revision does not add new routine uses for this system. This amendment will be effective without further notice on the day of its publication unless comments are received which would result in a contrary determination.

FOR FURTHER INFORMATION CONTACT: Child Care Subsidy Program Administrator, Office of Human Resources, Office of the Assistant Secretary for Administration and Management, U.S. Department of Health and Human Services, Room 300-E, 200 Independence Ave., SW., Washington, DC 20201. The telephone number is 202-690-6191.

SUPPLEMENTARY INFORMATION: The current Notice of System of Records covered only employees of OS, AoA, HRSA, SAMHSA, FDA, CDC/ATSDR and the PSC. Since that time, NIH has established a child care subsidy program for its employees. This amendment expands coverage of the Child Care Subsidy Program Records to include employees in NIH who are eligible for this program. The notice is published below in its entirety, as amended. HHS is also revising the name of the General Accounting Office in Routine Use number 5 because the name of that office has changed to the Government Accountability Office.

Dated: April 25, 2005.
Robert Hosenfeld,
Deputy Assistant Secretary for Human Resources.

09-90-0200

SYSTEM NAME:

Child Care Subsidy Program Records (HHS).

SYSTEM CLASSIFICATION:

None.

SYSTEM LOCATION:

Records are located throughout HHS in offices of agency child care program administrators and in offices of contract employees engaged to administer the subsidy programs. Since there are several sites around the country, contact the appropriate System Manager listed in Appendix A for more details about specific locations.

CATEGORIES OF INDIVIDUALS COVERED BY THE SYSTEM:

The individuals in the system are employees of the Administration on Aging (AoA), Office of the Secretary (OS), Substance Abuse and Mental Health Services Administration (SAMHSA), Food and Drug Administration (FDA), Program Support Center (PSC), Health Resources and Services Administration (HRSA), the Centers for Disease Control and Prevention and Agency for Toxic Substances and Disease Registry (CDC/ATSDR) and the National Institutes of Health (NIH) in the Department of Health and Human Services (HHS), who voluntarily apply for child care subsidies.

CATEGORIES OF RECORDS IN THE SYSTEM:

Application forms for a child care subsidy contain personal information, including employee's name, Social Security Number, grade, home phone number, home address, total income, number of dependent children, and number of children on whose behalf the employee is applying for a subsidy, information on any tuition assistance received from State/County/local child care subsidy, and information on child care providers used, including their name, address, provider license number, and State where license issues, tuition cost, provider tax identification number, and copies of Internal Revenue Form 1040 for verification purposes.

AUTHORITY FOR MAINTENANCE OF THE SYSTEM:

Sec. 630 of Pub. L. 107-67 (November 12, 2001 and Executive Order 9397 (November 22, 1943).

PURPOSE(S) OF THE SYSTEM:

To establish and verify HHS employees' eligibility for child care subsidies in order for HHS to provide monetary assistance to its employees.

ROUTINE USES OF RECORDS MAINTAINED IN THE SYSTEM, INCLUDING CATEGORIES OF USERS AND THE PURPOSES OF SUCH USE:

1. Disclosure may be made to a Member of Congress or to a congressional staff member in response to a request for assistance from the Member by the individual of record.

2. The Department of Health and Human Services (HHS) may disclose information from this system of records to the Department of Justice, or to a court or other tribunal, when (a) HHS, or any component thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation, and HHS determines that the use of such records by the Department of Justice, court or other tribunal is relevant and necessary to the litigation and would help in the effective representation of the governmental party, provided, however, that in each case HHS determines that such disclosure is compatible with the purpose for which the records where collected.

3. HHS intends to disclose information from this system to an expert, consultant, or contractor (including employees of the contractor) of HHS if necessary to further the implementation and operation of this program.

4. Disclosure may be made to a Federal, State, or local agency responsible for investigating prosecuting, enforcing, or implementing a statute, rule, regulation, or order, where the Department of Health and Human Services is made aware of a violation or potential violation of civil or criminal law or regulation.

5. Disclosure may be made to the Office of Personnel Management or the Government Accountability Office when the information is required for evaluation of the subsidy program.

POLICIES AND PRACTICES FOR STORING, RETRIEVING, ACCESSING, RETAINING, AND DISPOSING OF RECORDS IN THE SYSTEM:

1. Storage: Information may be collected on paper or electronically and may be stored as paper forms or on computers.

2. Retrievability: The records are retrieved by name and may also be cross-referenced to Social Security Number.

3. Safeguards:

—Authorized Users: Only HHS personnel working on this project and personnel employed by HHS contractors to work on this project are authorized users as designated by the system manager

—Physical Safeguards: Records are stored in lockable metal file cabinets or security rooms

—Procedural Safeguards: Contractors who maintain records in this system are instructed to make no further disclosure of the records, except as authorized by the system manager and permitted by the Privacy Act. Privacy Act requirements are specifically included in contracts.

—Technical Safeguards: Electronic records are protected by use of passwords

—Implementations Guidelines: HHS Chapter 45-13 of the General Administration Manual, “Safeguarding Records Contained in Systems of Records and the HHS Automated Information System Security Program Handbook, Information Resources Management Manual”

RETENTION AND DISPOSAL:

Disposition of records is according to the National Archives and Records Administration (NARA) guidelines.

SYSTEM MANAGER(S) AND ADDRESSES:

The records of individuals applying for and receiving child care subsidies are managed by System Managers at the various HHS sites listed in Appendix A.

NOTIFICATION PROCEDURE:

Individuals may submit a request with a notarized signature on whether the system contains records about them to the local System Manager.

RECORD ACCESS PROCEDURES:

Request from individuals for access to their records should be addressed to the local System Manager. Requesters should also reasonably specify the record contents being sought. Individuals may also request an accounting of disclosures of their records, if any.

CONTESTING RECORD PROCEDURES:

Contact the official at the address specified under Notification Procedures above and reasonably identify the record, specify the information being contested, and state the corrective action sought, with supporting information to show how the record is inaccurate, incomplete, untimely, or irrelevant.

RECORD SOURCE CATEGORIES:

Information is provided by HHS employees who apply for child care subsidies. Furnishing of the information is voluntary.

SYSTEMS EXEMPTED FROM CERTAIN PROVISIONS OF THE ACT:

None.

Appendix A

1. For employees of the Office of the Secretary and the Administration on Aging, nationwide, contact: Child Care Subsidy Program Coordinator, PSC Rockville Human Resource Center, Room 23C-42, 5600 Fishers Lane, Rockville, MD 20857.

2. For employees of the Food and Drug Administration, nationwide, contact: Child Care Subsidy Program Coordinator, Office of Human Resources and Management Services, Food and Drug Administration—HFA-410, 5600 Fishers Lane, Rockville, MD 20857.

3. For employees of the Health Resources and Services, contact: Child Care Subsidy Program Coordinator, Health Resources and Services Administration, 5600 Fishers Lane, Room 13-25, Rockville, MD 20857.

4. For employees of the Centers for Disease Control and Prevention, nationwide, contact: Work and Family Program Coordinator, Centers for Disease Control and Prevention, 4770 Buford Highway, MS-K17, Atlanta, GA 30341.

5. For employees of the Substance Abuse and Mental Health Services Administration, contact: Director, Division of Human Resources Management, Office of Program Services, 1 Choke Cherry Road, Rockville, MD 20892.

6. For employees of the National Institutes of Health, nationwide, contact: Child Care Program Manager, National Institutes of Health, 301 North Stone Street, Suite #118, Rockville, MD 20892.

[FR Doc. 05-8801 Filed 5-2-05; 8:45 am]

BILLING CODE 4151-17-P